DEPARTMENT OF HEALTH AND HUMAN SERVICES

Health Resources and Services Administration

Notice of Supplemental Award; Women's Preventive Services Initiative

AGENCY: Health Resources and Services Administration (HRSA), Department of Health and Human Services.

ACTION: Notice of supplemental award.

SUMMARY: HRSA is providing supplemental funds not to exceed $449,000 to the Women's Preventive Services Initiative (WPSI) in fiscal year 2023.

FOR FURTHER INFORMATION CONTACT: Kimberly Sherman, Chief, Maternal and Women's Health Branch, Division of Healthy Start and Perinatal Services, Maternal and Child Health Bureau, HRSA, at ksherman@hrsa.gov and 301-443-1702.

SUPPLEMENTARY INFORMATION: Intended Recipient of the Award: One award to American College of Obstetricians and Gynecologists (ACOG), the current recipient under WPSI, as listed in Table 1.

Amount of Non-Competitive Award: One award up to $449,000.

Project Period: March 1, 2021, to February 28, 2026.

CFDA Number: 93.110.

Award Instrument: Supplement.

Authority: 42 U.S.C. 701(a)(2) (title V, section 501(a)(2) of the Social Security Act).

Table 1—WPSI Award Recipient
[2021-2026]
Grant No. | Award recipient name | City, state | Award amount
UH0MC29440 | American College of Obstetricians and Gynecologists | Washington, DC | $449,000

Justification: Supplemental funding under this award will enhance HRSA's efforts to disseminate the Women's Preventive Service Guidelines and increase knowledge of the guidelines in standard clinical practice. The planned supplemental award to ACOG is within the scope of the most recent funding opportunity's (HRSA-21-045) program purpose, which aims to improve women's health across the lifespan. The supplemental funding, not to exceed $449,000, will support the implementation and expansion of program education and outreach.

Carole Johnson,
Administrator.

[FR Doc. 2023-17808 Filed 8-17-23; 8:45 am]

BILLING CODE 4165-15-P